DEPARTMENT OF COMMERCE

National Oceanic and Atmospheric Administration

RIN 0648-XZ51

Marine Mammals; File No. 15543

AGENCY: National Marine Fisheries Service (NMFS), National Oceanic and Atmospheric Administration (NOAA), Commerce.

ACTION: Notice; issuance of permit amendment.

SUMMARY: Notice is hereby given that a major amendment to Permit No. 15543-03 has been issued to Randall S. Wells, Ph.D. (Principal Investigator), Sarasota Dolphin Research Program, c/o Mote Marine Laboratory, 1600 Ken Thompson Parkway, Sarasota, FL 34236.

ADDRESSES: The permit amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Courtney Smith or Brendan Hurley, (301) 427-8401.

SUPPLEMENTARY INFORMATION: On January 9, 2015, notice was published in the Federal Register (80 FR 1398) that a request for an amendment Permit No. 15543-03 to conduct research on bottlenose (Tursiops truncatus) and Atlantic spotted (Stenella frontalis) dolphins for scientific research had been submitted by the above-named applicant. The requested permit amendment has been issued under the authority of the Marine Mammal Protection Act of 1972, as amended (16 U.S.C. 1361 et seq.), the regulations governing the taking and importing of marine mammals (50 CFR part 216).

The amended permit expands the study area to include the bay, sound, estuary and associated coastal waters of Mobile Bay, AL, and Terrebonne Bay, LA, and added annual takes in each location by remote biopsy sampling of bottlenose dolphins. Annual biopsy takes were also added to the currently authorized allotment of Florida biopsy activities to include a focused study in Pensacola Bay, FL. The amendment also authorizes the capture, satellite-tagging, and release of Atlantic spotted dolphins for health assessments by hoop-netting bow-riding individuals during surveys on the West Florida Shelf. Up to two takes by unintentional mortality are authorized annually. Finally, the amended permit authorizes a minor procedural modification to allow the administration of doubly-labeled water (deuterium oxide and oxygen-18) to bottlenose dolphins that are temporarily captured during currently permitted health assessments.

In compliance with the National Environmental Policy Act of 1969 (42 U.S.C. 4321 et seq.), a final determination has been made that the activity proposed is categorically excluded from the requirement to prepare an environmental assessment or environmental impact statement.

Dated: April 10, 2015.
Julia Harrison,
Chief, Permits and Conservation Division, Office of Protected Resources, National Marine Fisheries Service.

[FR Doc. 2015-09723 Filed 4-24-15; 8:45 am]

BILLING CODE 3510-22-P